FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
4481F | JFJ Freight Forwarders Inc., 13100 NW. 113th Avenue Road, Medley, FL 33178 | September 9, 2010.
019779N | Francisca Envios Inc., 1749 NW. 21st Terrance, Miami, FL 33142 | October 16, 2010.
020178N | LCL Shipping USA, Inc., dba Cargo Planet Logistics, 625 West Victoria Street, Compton, CA 90220 | October 15, 2010.

Sandra L. Kusumoto,
Director, Bureau of Certification and Licensing.

[FR Doc. 2010-29711 Filed 11-24-10; 8:45 am]

BILLING CODE P